DEPARTMENT OF VETERANS AFFAIRS

[OMB Control No. 2900-0342]

Agency Information Collection Activity Under OMB Review: Application and Training Agreement For Apprenticeship and On-the-Job Training Programs

AGENCY: Veterans Benefits Administration, Department of Veterans Affairs.

ACTION: Notice.

SUMMARY: In compliance with the Paperwork Reduction Act (PRA) of 1995 this notice announces that the Veterans Benefits Administration (VBA), Department of Veterans Affairs, will submit the collection of information abstracted below to the Office of Management and Budget (OMB) for review and comment. The PRA submission describes the nature of the information collection and its expected cost and burden; it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0342.

FOR FURTHER INFORMATION CONTACT: Danny S. Green, Enterprise Records Service (005R1B), Department of Veterans Affairs, 810 Vermont Avenue NW, Washington, DC 20420, (202) 421-1354 or email danny.green2@va.gov. Please refer to “OMB Control No. 2900-0342” in any correspondence.

SUPPLEMENTARY INFORMATION:

Authority: 10 U.S.C. 16131(d), 16136, and section 510 of chapter 31. 38 U.S.C. 3034(a)(1), 3241(a)(1), 3323(a), 3534(a), 3671, 3672, 3687(a); 38 CFR 21.4150(c), 21.4261(b) and (c), 21.5250(a), 21.7220(a), and 21.7720.

Title: Application and Training Agreement For Apprenticeship and On-the-Job Training Programs.

OMB Control Number: 2900-0342.

Type of Review: Revision of a currently approved collection.

Abstract: Each on-the-job trainee must receive a training agreement in accordance with statutory and regulatory requirements. VA form 22-8864 (or the training agreement provided by the SAA) is used to meet these requirements. VA Form 22-8865 (or the equivalent tool provided by the SAAs) is used to ensure that training programs meet the statutory and regulatory requirements for approval.

An agency may not conduct or sponsor, and a person is not required to respond to a collection of information unless it displays a currently valid OMB control number. The Federal Register Notice with a 60-day comment period soliciting comments on this collection of information was published at 85 FR 119 on June 19, 2020, at pages 37156 and 37157.

Affected Public: Individuals or households.

Estimated Annual Burden: 11,744 hours.

Estimated Average Burden per Respondent: 120 minutes.

Frequency of Response: Once on occasion.

Actual Number of Respondents: 5,872.

By direction of the Secretary.
Danny S. Green,
VA Clearance Officer, Office of Quality, Performance and Risk, Department of Veterans Affairs.

[FR Doc. 2020-19823 Filed 9-8-20; 8:45 am]

BILLING CODE 8320-01-P